DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Industrial Reports Program.

OMB Control Number: 0607-0476.

Form Number(s): Various.

Type of Request: Revision of a currently approved collection.

Burden Hours: 28,131.

Number of Respondents: 19,728.

Average Hours Per Response: 42 minutes.

Needs and Uses: The U.S. Census Bureau conducts a series of monthly, quarterly, and annual surveys as part of the Current Industrial Reports (CIR) Program. The CIR surveys request primarily the quantity and value of shipments of particular products and occasionally data on production and inventories; unfilled orders, receipts, stocks, and consumption; and comparative data on domestic production, exports, and imports of the products they cover.

Previously, the CIR surveys were divided into three separate waves and submitted separately for OMB review. Due to the reduced number of surveys in the CIR Program, the CIR surveys are being combined into one wave. During the economic census years, in the years ending in 2 and 7 all voluntary annual surveys are made mandatory.

Primary users of these data are government and regulatory agencies, business firms, trade associations, and private research and consulting organizations. The Federal Reserve Board (FRB) uses CIR data in its monthly index of industrial production as well as its annual revision to the index. The Bureau of Economic Analysis (BEA) and the Bureau of Labor Statistics (BLS) use the CIR data in the estimate of components of gross domestic product (GDP) and the estimate of output for productivity analysis, respectively. Many government agencies, such as the Department of Agriculture, Food and Drug Administration, Department of Energy, Federal Aviation Administration, BEA, and International Trade Administration use the data for industrial analysis, projections, and monitoring import penetration. Private business firms and organizations use the data for trend projections, market analysis, product planning, and other economic and business-oriented analysis. Since the CIR program is the sole, consistent source of information regarding specific manufactured products in the intercensal years, the absence thereof would severely hinder the Federal Government's ability to measure and monitor important segments of the domestic economy, as well as the effect of import penetration.

Affected Public: Business or other for-profit organizations.

Frequency: Monthly, quarterly, and annually.

Respondent's Obligation: Voluntary and mandatory, depending on the survey.

Legal Authority: Title 13, United States Code, Sections 61, 81, 131, 182, 224, and 225.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: August 13, 2008.
Gwellnar Banks,
Management Analyst, Office of the Chief Information Officer.

[FR Doc. E8-19058 Filed 8-15-08; 8:45 am]

BILLING CODE 3510-07-P